ENVIRONMENTAL PROTECTION AGENCY

[FRL-7218-4]

Notice of Availability for FY 02 Enforcement and Compliance Assurance Multi-Media Assistance Agreements

AGENCY: Environmental Protection Agency (EPA).

ACTION: Notice.

SUMMARY: The Office of Compliance (OC), within EPA's Office of Enforcement and Compliance Assurance (OECA), is soliciting proposals for assistance agreements with states and tribes, in the range of $50,000-$200,000, for proposals in three focus areas: Tribal and State Inspector Training; Program Planning and Performance Measurement; and Data Management.

DATES: Two to five page pre-proposals must be received electronically or by hard copy by July 5, 2002. Funding decisions will be made by August 16, 2002 based on the pre-proposals. Applicants selected to receive funds will be required to submit final proposals to the appropriate EPA Region by September 27, 2002.

ADDRESSES: Copies of Pre-proposals should be sent to David Piantanida (2222A), US EPA—Ariel Rios South Rm 6149D, 1200 Pennsylvania Avenue, NW., Washington, DC 20460, email: piantanida.david@epa.gov, Tel: (202) 564-8318, Fax: (202) 564-0034; and simultaneously to the appropriate Regional Enforcement Coordinator. This document will be posted on the EPA's Office of Enforcement and Compliance Assurance web site at http://www.epa.gov/compliance/planning/states.

FOR FURTHER INFORMATION CONTACT: David Piantanida at (202) 564-8318.

SUPPLEMENTARY INFORMATION:

Eligibility and Authority

The funds available are from OECA's Multi-Media State and Tribal Assistance Grants (STAG) appropriation. Eligible applicants include States, Tribes, Inter-Tribal Consortia, Territories, and multi-jurisdictional organizations.

Authority to enter into assistance agreements for the purposes described in this Notice are delegated to OECA in EPA Delegation 1-47, Assistance Agreements for Economic, Social Science, Statistical, and Other Research, Development, Studies, Surveys, Demonstrations, Investigations,Public Education Programs, Training, and Fellowships.

Funding priorities must be allowable under 66.709 (Capacity Building Grants and Cooperative Agreements for States and Tribes) of the Catalog of Federal Domestic Assistance (CFDA).

Desired Projects

OECA will only consider funding projects for the three focus areas described below, and for projects which can be completed in 3 years or less. Projects will be evaluated for potential funding based on the extent to which they address the information below. Please note, applicants do not need to address all 3 focus areas in their pre-proposals. Each focus area is separate and proposals from each category will be evaluated independently.

Table of Contents

1. Tribal and State Inspector Training:

2. Program Planning and Performance Measurement:

(A) Enhancing Results through improved Regional/State/Tribal Planning

(B) Outcome measures for Enforcement and Compliance Assurance Initiatives

(C) Development of performance measures for Concentrated Animal Feeding Operations (CAFOs) and Worker Protection Standards (WPS)

3. Data Management:

(A) Permit Compliance System (PCS) Modernization

(B) Air Facility System (AS)—Universal Interface (UI)

1. Tribal and State Inspector Training

OECA's Office of Compliance is seeking ways to improve and build tribal and state inspector capability. EPA maintains discretionary authority to ask tribes and states to conduct civil inspections on behalf of the Agency under each federal environmental statute. It is essential that tribal and state inspectors are trained to safely and properly conduct federal civil inspections. OECA will consider funding for basic inspector training, media-specific inspector training, and/or health and safety training courses.

This Notice also solicits projects that build partnerships between states or tribes through a Regional Inspectors workshop. The workshop may be designed for state, tribal or local inspectors within a region, and could cover a variety of topics designed to build inspector capability to conduct compliance monitoring inspections under federal authority. The host state or tribe would fund the travel, course materials, and contractor costs with grant funds.

Criteria for proposal selection will include the following:

(a) The explicit intent to collaborate and partner with other states and tribes within an EPA region to host or participate in an Inspector workshop.

(b) Course outline and content is consistent with EPA Federal guidelines and is supportive of an authorized program. (e.g., training provides information on federal inspection law and policy) Course content may also provide information on inspection issues that arise under state and tribal laws.

2. Program Planning and Performance Measurement

OECA's Office of Compliance is making funds available to assist states and tribes with Performance Measurement and Program Planning initiatives. Projects should develop and/or implement performance measurement outcomes or improved program planning in the following ways:

(A) Enhancing Results through Improved Regional/State/Tribal Planning: Projects to support state or tribal efforts to collaboratively carry out joint priority setting and work planning. Projects address the following components of a joint planning effort:

(1) Projects that describe how a state or tribe plans to perform efficient enforcement and compliance work planning with EPA Regions;

(2) Projects that define the components for the steps in the joint planning process; and

(3) Projects that develop a process which would be used to produce a surrogate “risk based” ranking of all identified enforcement and compliance assurance problems facing a state or a tribe.

Projects may be used to support either Performance Partnership grants or traditional, media specific program grant activities.

(B) Outcome measures for Enforcement and Compliance Assurance Initiatives: Historically, EPA and the states have used enforcement outputs such as inspections conducted, or enforcement actions taken, as the primary performance measures for their enforcement and compliance assurance programs. While these output measures provide important information about the enforcement presence among regulated facilities and industries, they do not necessarily characterize the state of compliance in regulated facilities, describe the overall environmental results achieved, or assess the extent to which important objectives and problems are being addressed.

Measurement of environmental outcomes in general is often very challenging due to the difficulty of defining outcomes, lack of supporting data, and the complexity of developing measures that are valid and representative of populations being measured. Outcome measurement of compliance incentives or assistance presents unique challenges compared to other activities such as enforcement, where the results are compulsory and can therefore be tracked. OECA is making funds available to assist states and tribes in developing and field testing outcome measures for enforcement and compliance assurance initiatives/activities.

Projects should develop and test outcome measures from state/tribal enforcement and compliance assurance activity. Examples of outcome measures for enforcement and/or compliance assurance/initiatives follow:

Statistically Valid Noncompliance Rates

—Develop or implement a methodology for statistically valid noncompliance rates.

Improvements Resulting from Enforcement Actions/Initiatives

Examples:

—Number or percent of concluded enforcement actions identifying pollutant reductions.

—Amount of emissions, pollutants, and/or risk reduced from enforcement actions.

—Number or percent of enforcement actions that result in improvements in the use or handling of pollutants, such as changes in industrial processes or storage and disposal practices to achieve emission and discharge reduction.

—Number or percent of enforcement actions that result in improvements in facility management practices and information.

Improvements Resulting from Compliance Assistance Tools and Initiatives

Compliance assistance can include on site visits, workshops, mailed tools or outreach materials, hotlines, phone calls, meetings, or training that provides clear and consistent information for (1) helping the regulated community understand and meet its obligations under environmental regulations; and (2) compliance assistance providers to aid the regulated community in complying with environmental regulations. Compliance assistance may also help the regulated community find cost-effective ways to comply with regulations and/or go “beyond compliance” through the use of pollution prevention, environmental management practices, and innovative technologies, thus improving their environmental performance. To be categorized as a compliance assistance project or activity, at least one objective must be related to achieving or advancing regulatory compliance.

Better understanding of regulations or compliance:

—Number of facilities whose understanding of environmental regulations improved as measured by pre-or post-tests at workshops.

—Number of facilities whose understanding of environmental regulations has improved as a result of the compliance assistance received, as indicated by verbal or written responses to surveys.

Behavioral changes (regulatory and non-regulatory environmental management changes):

—Number of facilities:

• That have taken action(s) to comply with environmental regulations because of the compliance assistance received and/or incentives offered.

• That have improved the quality of self-reported information or begun reporting this information for the first time.

• Adopting non-regulatory process changes or best management practices as a result of compliance assistance received and/or incentives offered.

• Making environmental management changes (i.e., improved training, self-audits, development of an environmental management system) because of the compliance assistance received and/or incentives offered.

—Number of compliance assistance projects demonstrating improved compliance rates, measured through direct observation.

Environmental or human health improvements:

—Number of facilities that reduce emissions or other pollutants.

—Amount of emissions, pollutants, and/or risk reduced.

Applicants are encouraged to consult and utilize EPA's Guide to Compliance Assistance Outcome Measurement. This document is available at http://es.epa.gov/oeca/perfmeas/full-oec.pdf. If you do not have access to the internet, you may request a hard copy by contacting David Piantanida on (202) 564-8318.

Improvements Resulting from Integrated Initiatives

Environmental or human health improvements or behavioral changes (see above) from initiatives which include more than one tool, e.g. enforcement and compliance assistance.

Improvements Resulting from Self-policing Efforts/Use of Compliance Incentive Policies

Compliance incentive policies encourage the regulated community to voluntarily discover, disclose and correct violations before they are identified by regulatory agencies for enforcement investigation or response. Examples of outcome measures from compliance incentive policies include:

—Number or percent of concluded self-disclosed actions identifying pollutant reductions.

—Amount of emissions, pollutants, and/or risk reduced from self-disclosed actions.

—Number or percent of self-disclosed actions that result in improvements in the use or handling of pollutants.

—Number or percent of self-disclosed actions that result in improvements in facility management practices and information.

(C) Development of performance measures for Concentrated Animal Feeding Operations (CAFOs) and Worker Protection Standards (WPS): OECA is making funds available to states or tribes to develop and field test outcome measures to gauge the effectiveness of assistance, incentives, monitoring, and enforcement on CAFO and WPS compliance. Examples of outcome measures for enforcement and compliance assistance have previously been listed above.

Applicants are encouraged to consult and utilize EPA's Guide to Compliance Assistance Outcome Measurement. This document is available at http://es.epa.gov/oeca/perfmeas/full-oec.pdf. If you do not have access to the internet, you may request a hard copy by contacting David Piantanida on (202) 564-8318.

Criteria for Proposal Selection for A, B, or C, Will Include the Following

(a) Extent to which suggested performance measures are: (1) Relevant—to important goals and objectives of enforcement and compliance assurance programs; (2) transparent—comprehensible to important users and audiences; (3) credible—based on accurate and timely supporting data;

(4) feasible—capable of being implemented without costs disproportionate to their value; and

(5) functional—they promote good performance by regulated entities and agency personnel; and

(b) Extent to which information and data is relevant to, and shared with, other states, tribes and EPA.

3. Data Management

OECA's Office of Compliance is seeking ways to enhance states and tribes ability to provide data to EPA to allow for better integration of data (e.g. enforcement and compliance), improve state and tribal multi-media targeting capabilities, improve multi-media reporting capabilities, and compliance assurance capabilities. To accomplish this, it is critical that a state or tribal system is capable of reporting data to EPA that is consistent with EPA/state data standards and in line with new requirements of modernized media data systems (e.g. Permit Compliance System) or current requirements of legacy media systems. OECA is making funds available to support the enhancement of the state's or tribe's ability to provide data to EPA, through improved system interfaces, data linkages, and data clean-up. OECA is interested in maximizing the quality of the data that is provided to the national systems, while minimizing reporting burdens, especially for states/tribes with numerous quasi-independent boards, departments and offices—all with independent data systems.

This Notice also solicits projects that assist states/tribes with reporting of consistent streamlined environmental and compliance data to EPA, including, but not limited to, the following:

(A) Permit Compliance System (PCS) Modernization: assisting states/tribes with upgrading of their current state systems through improved system interfaces, data linkages and data clean-up; and

(B) Air Facility System (AFS)—Universal Interface (UI): assisting states/tribes with enhancement of their current state systems to incorporate the use of the AFS UI interface software to allow for improved system interfaces, data linkages and data clean-up.

Criteria for Proposal Selection Will Include the Following

(a) Extent to which projects support/provide a solution to consistent streamlined reporting of data across the various independent media data systems or lead to identifying problems/issues associated with the reporting of environmental data to EPA, with recommendations for solving the problem;

(b) Extent to which projects address problems and provide recommendations for improvements to enhancing reporting of data to EPA by the states/tribes and by EPA;

(c) Extent to which projects support EPA/state data standards implementation, media system modernization efforts, and data clean up efforts that would promote better integration of data across EPA systems.

Funding

The grants/cooperative agreements should be in the range of $50,000 to $200,000, although proposals below or above that range will be considered.

State and tribal matching funds are not required. However, preference will be given to proposals which also make a commitment of state or tribal resources towards the total project cost. This can be state or tribal personnel salary dedicated to the project, cash contribution to the project budget or other “in kind” contributions.

OECA can not predict that additional funds for these focus areas will be available in future years. Therefore, states and tribes should assume that these funds will be available on a one-time only basis and should not propose projects requiring annual funding.

Process and Schedule

Electronic pre-proposals must be received by EPA by July 5, 2002 and should follow the format below. Pre-proposals should be submitted simultaneously to the appropriate Regional Enforcement Coordinator, and to David Piantanida, OECA, (See contact information below.) Funding decisions will be made by August 16, 2002 based on the pre-proposals. Applicants selected to receive funds will be required to submit final proposals by September 27, 2002. Regions will provide application materials to selected applicants.

Proposed Milestones for 2002 OECA Multi Media Assistance Agreements

July 5: Electronic Pre-Proposals due simultaneously to the appropriate EPA Regional Enforcement Coordinator, and David Piantanida, OECA.(See contact information below.)

August 16: EPA notifies applicants of funding decisions.

August 19: Selected recipients receive final application materials from EPA Regional office and name and contact info of Regional Project Officer and Regional Grants Contact.

September 27: Final Proposals/Work Plans due to Regional Project Officers and Regional Grants Contact, and David Piantanida, OECA.

October: Grants awarded.

Format for Pre-Proposals

Pre-proposals should be 2-5 pages long and follow the format below:

I. Project Information

State/Tribe and Department:

Title of Project:

Focus Area: (from Notice of Availability)

Total Funds Requested from EPA:

Total Project Cost (including state/tribe cash and in-kind contributions):

Contact Person: (name, title, address, phone, fax, & email)

Preferred Assistance Agreement: (Grants or cooperative agreements)

II. Summary

—Summary of the problem being addressed

—Summary of project goal(s)

—Summary of project components

—Summary of how the project components will address the problem & attain the goals

III. Work Plan

—Proposed activities—list and describe activities and how they relate to the evaluation elements listed under Desired Projects above

—Measures—how will the success of the project be measured?

—Sharing results—how will the results of the project be shared across states/tribes?

IV. Project Milestones

—List project milestones with estimated dates, including estimated duration of project

V. Project Costs

—Include an itemized budget for all project costs—distinguish the funds requested from any state/tribe contributions (in kind or other)

Reports

Awardees will be required to submit quarterly and final progress reports to their project officer and to David Piantanida at the address below. A template reporting form will be provided to all funded grantees. Recipients will also be required to complete annual Financial Status Reports.

Contact Information

For more information regarding this process, please contact David Piantanida at the address below:

David Piantanida (2222A), US EPA—Ariel Rios South Rm 6149D, 1200 Pennsylvania Avenue, NW., Washington, DC 20460, piantanida.david@epa.gov, Tel: (202) 564-8318, Fax: (202) 564-0034.

EPA Regional Contacts

EPA Region I

Enforcement Coordinator: Ken Moraff—moraff.ken@epa.gov

Enforcement Division Director: Sam Silverman—silverman.sam@epa.gov

EPA Region II

Enforcement Coordinator: Barbara McGarry—mcgarry.barbara@epa.gov

Enforcement Division Director:Richard Caspe—caspe.richard@epa.gov

EPA Region III

Enforcement Coordinator: Samantha Fairchild—fairchild.samantha@epa.gov

EPA Region IV

Enforcement Coordinator: Sherri Fields—fields.sherri@epa.gov

Enforcement Division Director: William Anderson—anderson.william@epa.gov

EPA Region V

Enforcement Coordinator: Tinka Hyde—hyde.tinka@epa.gov

EPA Region VI

Enforcement Coordinator: Walter Biggins—biggins.walter@epa.gov

Enforcement Division Director: Samuel Coleman—coleman.samuel@epa.gov

EPA Region VII

Enforcement Coordinator: Cecilia Tapia—tapia.cecilia@epa.gov

EPA Region VIII

Enforcement Coordinator: Eddie Sierra—sierra.eddie@epa.gov

Enforcement Division Director:Carol Rushin—rushin.carol@epa.gov

EPA Region IX

Enforcement Coordinator: Sally Seymour—seymour.sally@epa.gov

EPA Region X

Enforcement Coordinator: Lauris Davies—davies.lauris@epa.gov

Dated: May 21, 2002.
Michael M. Stahl,
Director, Office of Compliance.

[FR Doc. 02-13250 Filed 5-28-02; 8:45 am]

BILLING CODE 6560-50-P